ENVIRONMENTAL PROTECTION AGENCY

[EPA-HQ-OLEM-2026-0301; FRL-13189-01-OLEM]

Hazardous Waste Electronic Manifest Program (“e-Manifest”): Request for Public Input on Charge Questions to the e-Manifest Advisory Board and on a Potential Topics of e-Manifest System Industry Users Conference

AGENCY: Environmental Protection Agency (EPA).

ACTION: Public notice.

SUMMARY: The U.S. Environmental Protection Agency (EPA) invites the public to:

Provide input for potential charge questions and/or charge question topics which EPA could consider when consulting the e-Manifest Advisory Board (“Advisory Board”) regarding the operations of EPA's hazardous waste electronic manifest system (“e-Manifest”). Relevant topics could include matters related to the operational activities, functions, policies, and regulations of EPA under the e-Manifest Act, and provide input on topics for an EPA sponsored e-Manifest Industry Users Conference.

DATES: Advisory Board charge question and/or charge question topics recommendations and e-Manifest users conference topics recommendations comments must be received on or before March 9, 2026.

ADDRESSES: Advisory Board charge question recommendations and e-Manifest Users conference topics recommendations should be submitted to the public docket under docket No. EPA-HQ-OLEM-2026-0301 at http://www.regulations.gov.

FOR FURTHER INFORMATION CONTACT: Fred Jenkins, Designated Federal Officer (DFO), U.S. Environmental Protection Agency, Office of Resource Conservation and Recovery, 1200 Pennsylvania Avenue NW, Washington, DC 20460; telephone number: (202) 566-0344, email address: jenkins.fred@epa.gov.

SUPPLEMENTARY INFORMATION:

Background

The e-Manifest Advisory Board was established pursuant to the Hazardous Waste Electronic Manifest Establishment Act (e-Manifest Act), and in accordance with the provisions of the Federal Advisory Committee Act (FACA). The purpose of the Advisory Board is to provide recommendations to the EPA Administrator on matters related to the e-Manifest program activities, functions, policies, and regulations of the EPA under the e-Manifest Act. EPA consults the Advisory Board at least annually. EPA is inviting the public to provide input for potential charge questions and/or charge question topics which EPA could consider when consulting the Advisory Board.

To further our outreach and engagement efforts, EPA's e-Manifest program is exploring the possibility of hosting an e-Manifest industry users conference. The purpose of a potential e-Manifest industry users conference would be to provide a forum for industry (non-regulatory) users such as waste generators, transporters, TSDFs, and brokers to participate in moderated discussions centered on the electronic manifest workflow. EPA is requesting the public to provide topics for EPA to consider for an e-Manifest industry users conference.

The Hazardous Waste Electronic Manifest System Advisory Board is established in accordance with the provisions of the Hazardous Waste Electronic Manifest Establishment Act (e-Manifest Act) and the Federal Advisory Committee Act (FACA). The Advisory Board is in the public interest and supports the EPA in performing its duties and responsibilities. The Advisory Board meets annually to discuss, to evaluate the effectiveness of, and to provide recommendations about the system to the EPA Administrator. For more information, please visit the Advisory Board website at https://www.epa.gov/e-manifest/hazardous-waste-electronic-manifest-system-e-manifest-advisory-board.

To help ensure that the e-Manifest system is meeting the needs of its user community, EPA is inviting the public to suggest potential charge questions and/or charge question topics for which the Agency could consider asking the Advisory Board to address during future public meetings of the Advisory Board. A charge includes focused questions on a specific topic upon which the Agency could seek to obtain advice or recommendations from the Advisory Board. Relevant topics could include matters related to the operational activities, functions, policies, and regulations of EPA under the e-Manifest Act. For an example of a focused set of charge questions please visit the following document at https://www.regulations.gov/document/EPA-HQ-OLEM-2025-0391-0004. The topic of this example set of charge questions posed to the Board by EPA was “Accelerating the Future: Phasing out Paper Manifest to Unlock the Full Potential of e-Manifest”. This example topic was from the September 23-24, 2025, e-Manifest Advisory Board public meeting. For more information about this example, please visit: https://www.epa.gov/e-manifest/hazardous-waste-electronic-manifest-system-advisory-board-virtual-meeting-september-23.

Also, in support of meeting the needs of the e-Manifest user community, EPA is exploring hosting a potential e-Manifest industry users conference. The purpose of the industry users conference would be to provide a forum for industry (non-regulatory) users such as waste generators, transporters, TSDFs, and brokers to participate in moderated discussions centered on the electronic manifest workflow. EPA is requesting the public to provide topics for EPA to consider for an e-Manifest industry users conference.

While EPA is soliciting public input on potential future charge questions for the Advisory Board and topics for considerations for a future potential e-Manifest users conference, EPA notes the Agency has sole discretion in determining charge questions ultimately posed to the Advisory Board as well as topics selected at an e-Manifest Users conference. EPA also notes that the Advisory Board only provides advice and recommendations to EPA, and EPA in turn considers such advice when making decisions pertaining to the e-Manifest system.

Andrew Baca,
Director, Office of Resource Conservation and Recovery.

[FR Doc. 2026-02343 Filed 2-5-26; 8:45 am]

BILLING CODE 6560-50-P